DEPARTMENT OF COMMERCE

National Oceanic and Atmospheric Administration

[I.D. 121903E]

New England Fishery Management Council; Public Meeting

AGENCY: National Marine Fisheries Service (NMFS), National Oceanic and Atmospheric Administration (NOAA), Commerce.

ACTION: Public meeting.

SUMMARY: The New England Fishery Management Council (Council) will hold a 3-day Council meeting on January 27-29, 2004, to consider actions affecting New England fisheries in the exclusive economic zone (EEZ).

DATES: The meeting will be held on Tuesday, January 27, 2004, beginning at 9:00 a.m. and on Wednesday and Thursday, January 28 and 29, beginning at 8:30 a.m.

ADDRESSES: The meeting will be held at the Viking Hotel, One Bellevue Avenue,Newport, RI, 02840; telephone (401) 847-3300. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, January 27, 2004

Following introductions, the Council will receive reports on recent activities from the Council Chairman and Executive Director, the NMFS Regional Administrator, Northeast Fisheries Science Center and Mid-Atlantic Fishery Management Council liaisons, NOAA General Counsel and representatives of the U.S. Coast Guard, NMFS Enforcement and the Atlantic States Marine Fisheries Commission. During her report, the Regional Administrator will brief the Council on a national commercial fisheries employment survey to be conducted by NOAA Fisheries early next year. There also will be a short presentation on the status of species reviewed at the 38th Northeast Regional Stock Assessment Workshop. Species will include ocean quahogs and butterfish. During the Tuesday afternoon session the Council will discuss and set Council work priorities for 2004. A Scallop Committee report will follow and focus on a request for emergency action. If approved, the emergency would likely remain in effect until NMFS publishes a final rule for Amendment 10 the Atlantic Sea Scallop Fishery Management Plan (FMP). Measures could include, but are not limited to closure of the Hudson Canyon and Elephant Trunk Areas. The areas contain a high abundance of small scallops that would be subject to harvesting without the protection specified in Amendment 10 or the emergency action. Late in the day, the Groundfish Committee will begin its report to the Council with guidance provided by the Transboundary Management Guidance Committee on U.S./Canada issues. This will include Total Allowable Catch recommendations for eastern Georges Bank cod, haddock and yellowtail flounder.

Wednesday, January 28, 2004

The Groundfish Committee will continue its report on Wednesday. It will propose initial action on Framework Adjustment 40 to the Northeast Multispecies FMP. At this meeting the Council intends to identify the objectives of the action as well as the alternatives that will specify the restrictions on the use of “B” days-at-sea. B days are among the effort controls included in Amendment 13 to the FMP. The Council also will likely prepare comments on the proposed rule implementing Amendment 13. Additionally, it may consider recommendations from the Groundfish Committee concerning the issues of steaming time and future access to the fishery by former participants who may be precluded from fishing under Amendment 13. If necessary, the Council also could discuss issues related to Congressional action as it affects NMFS funding in 2004.

Thursday, January 29, 2004

The Research Steering Committee will report to the Council on refinements to its policy on incorporating the results of cooperative research results into the management process and activities planned for 2004. The Council is then scheduled to review and approve its draft Statement of Organization, Practices and Procedures. The Habitat/Marine Protected Area Committee will ask for approval of its recommendations concerning the timing and scope of Essential Fish Habitat Amendment 2. There will also be a discussion of the committee's rationale to prohibit clam dredges from habitat closed areas designated in Amendment 13 to the Northeast Multispecies FMP. The afternoon session will include a report by the NOAA Fisheries Statistics Office on a proposed rule implementing mandatory dealer electronic reporting and scheduled for publication in 2004. The meeting will conclude with a briefing on NOAA Fisheries National Bycatch Strategy and regional implementation of a plan. Any other Council business that was postponed until the close of the meeting will also be addressed at this time.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: December 22, 2003.
Bruce Morehead,
Acting Director, Office of Sustainable Fisheries,National Marine Fisheries Service.

[FR Doc. 03-32073 Filed 12-29-03; 8:45 am]

BILLING CODE 3510-22-S